DEPARTMENT OF COMMERCE

National Oceanic and Atmospheric Administration

50 CFR Part 679

[Docket No. 011219306-3058-03; I.D. 110501A]

RIN 0648-AM44

Fisheries of the Exclusive Economic Zone off Alaska; Revisions to Observer Coverage Requirements for Vessels and Shoreside Processors in the North Pacific Groundfish Fisheries; Correction

AGENCY: National Marine Fisheries Service (NMFS), National Oceanic and Atmospheric Administration (NOAA), Commerce.

ACTION: Final rule; Technical correction.

SUMMARY: This document corrects a January 7, 2003, final rule that implemented changes to regulations governing the North Pacific Groundfish Observer Program (Observer Program). The action is necessary to correct erroneous cross references and inaccurate amendatory language that occurred in the final rule.

DATES: Effective April 2, 2003.

FOR FURTHER INFORMATION CONTACT: Patsy A. Bearden, 907-586-7008.

SUPPLEMENTARY INFORMATION: A final rule implementing changes to regulations governing the Observer Program was published in the Federal Register January 7, 2003 (68 FR 715). The final rule contained five errors in cross references caused by renumbering of paragraphs. These errors are corrected by this action.

Need for Corrections

In this final rule, the renumbering of paragraphs affected cross references in three paragraphs that were not addressed in the final rule. Newly redesignated paragraph 679.50(d)(5)(i) is corrected by removing the reference to “(d)(4)(ii)” and by adding in its place “(d)(5)(ii)”; Newly redesignated paragraph 679.50(d)(5)(ii)(B) is corrected by removing reference to “(d)(4)(iii)”, and by adding in its place “(d)(5)(iii)”; and paragraph 679.50(g)(2)(iii)(B)(2) is corrected by removing the reference to “(d)(3)” and by adding in its place “(d)(4)”.

Amendatory instruction 2 of 68 FR 715 is corrected by removing the text “(d)(3) through (6)” and by adding in its place “(d)(3) through (5)” by removing the text “(d)(4) through (7)” and by adding in its place “(d)(4) through (6)” and by correcting the text “paragraphs(i)(2)(vi) and (i)(2)(xii) are revised;” to read as “paragraph(i)(2)(vi) is revised; and paragraph (i)(2)(xii) is added;”.

Classification

This action corrects paragraph numbering and cross references, a non-discretionary technical change with no substantive effects. Therefore, the Assistant Administrator for Fisheries, NOAA, finds good cause to waive the requirement to provide prior notice and opportunity for public comment under 5 U.S.C. 553(b)(B), as such procedure would be unnecessary. Because this technical amendment does not constitute a substantive rule, it is not subject to the requirement for a 30-day delay in effective date under 5 U.S.C. 553(d). Because prior notice and opportunity to comment is not required for this action by 5 U.S.C. 553 or any other law, the analytical requirements of the Regulatory Flexibility Act, 5 U.S.C. 601 et seq. are not applicable.

List of Subjects in 50 CFR Part 679

Alaska, Fisheries, Recordkeeping and reporting requirements.

Dated: March 24, 2003.
Rebecca Lent,
Deputy Assistant Administrator for Regulatory Programs, National Marine Fisheries Service.

Accordingly, 50 CFR part 679 is corrected by making the following correcting amendments to the final rule published on January 7, 2003 (68 FR 715):

PART 679—FISHERIES OF THE EXCLUSIVE ECONOMIC ZONE OFF ALASKA

1. The authority citation for part 679 continues to read as follows:

Authority: 16 U.S.C. 773 et seq., 1801 et seq.; 3631 et seq.; Title II of Division C, Pub. L. 105-277; Sec 3027, Pub. L. 106-31; 113 Stat. 57; 16 U.S.C. 1540(f); and Sec. 209, Pub, L, 106-554.

§ 679.50 [Corrected]

2. In § 679.50, correct the reference to paragraphs redesignated in the final rule 68 FR 715, January 7, 2003:

a. In paragraph (d)(5)(i), remove the reference “(d)(4)(ii)” and add in its place “(d)(5)(ii)”.

b. In paragraph (d)(5)(ii)(B), remove the reference “(d)(4)(iii)” and add in its place “(d)(5)(iii)”.

c. In paragraph (g)(2)(iii)(B)(2), remove the reference “(d)(3)” and add in its place “(d)(4)”.

3. On page 719 of 68 FR 715, third column, amendatory instruction 2:

a. Lines 1 and 2, remove “(d)(3) through (6)” and add in its place “(d)(3) through (5)”.

b. Lines 2 and 3, remove “(d)(4) through (7)” and add in its place “(d)(4) through (6)”.

c. Line 5 and 6, remove “paragraphs (i)(2)(vi) and (i)(2)(xii) are revised” and add in its place “paragraph (i)(2)(vi) is revised; and new paragraph (i)(2)(xii) is added;”.

[FR Doc. 03-7517 Filed 4-1-03; 8:45 am]

BILLING CODE 3510-22-S